DEPARTMENT OF AGRICULTURE

Office of the Secretary

7 CFR Part 2

RIN 0503-AA63

Delegations of Authority; Correction

AGENCY: Office of the Secretary, USDA.

ACTION: Final rule; correction.

SUMMARY: The U.S. Department of Agriculture (USDA) is correcting a final rule that appeared in the Federal Register on July 26, 2022. The document amended the delegations of authority of the Secretary of Agriculture and other general officers of the Department. This document corrects an error in the amendatory instructions for one of the delegations in the final rule.

DATES: Effective September 7, 2022.

FOR FURTHER INFORMATION CONTACT: Melissa McClellan, Office of the General Counsel, (202) 720-5565, melissa.mcclellan@usda.gov.

SUPPLEMENTARY INFORMATION: In FR Doc. 2022-15742 appearing on page 44265 in the Federal Register of Tuesday, July 26, 2022, the following correction is made:

§ 2.16 [Corrected]

1. On page 44267, in the first column, in amendment 8, the instruction “Amend § 2.16 by revising paragraphs (a)(1)(xxviii)(B) and (a)(12) to read as follows:” is corrected to read “Amend § 2.16 by revising paragraph (a)(1)(xxviii)(B) and adding paragraph (a)(12) to read as follows:”.

Janie S. Hipp,
General Counsel.

[FR Doc. 2022-19238 Filed 9-6-22; 8:45 am]

BILLING CODE 3410-90-P